DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than February 25, 2002.

Interested persons are invited to submit written comments regarding the subject matter of the investigations to the Director, Division of Trade Adjustment Assistance, at the address shown below, not later than February 25, 2002.

The petitions filed in this case are available for inspection at the Office of the Director, Division of Trade Adjustment Assistance, Employment and Training Administration, U.S. Department of Labor, Room C-5311, 200 Constitution Avenue, NW., Washington, DC 20210.

Signed at Washington, DC this 14th day of January, 2002.
Edward A. Tomchick,
Director, Division of Trade Adjustment Assistance.

Appendix
[Petitions instituted on 1/14/2002]
TA-W | Subject Firm (Petitioners) | Location | Date of petition | Product(s)
40,536 | Rohm and Haas (Co.) | Moss Point, MS | 12/19/2001 | Liquid polysulfide.
40,537 | Protel, Inc. (Wkrs) | Lakeland, FL | 12/08/2001 | Pay phones.
40,538 | JMC LLC—Nexpas (Wkrs) | Rockaway, NY | 12/19/2001 | Plastic video/DVD cases.
40,539 | Kemmer Prazision (Co.) | Chicago, IL | 12/13/2001 | Carbide cutting tools.
40,540 | Beta Steel Corp. (Co.) | Portage, IN | 12/26/2001 | Hot rolled steel coils.
40,541 | Americold (Co.) | Cullman, AL | 11/20/2001 | Refrigeration compressors.
40,542 | Vision Metals-Gulf State (USWA) | Rosenberg, TX | 12/08/2001 | Steel tubing.
40,543 | Steelcase (Wkrs) | Fletcher, NC | 12/13/2001 | Wood office furniture.
40,544 | Tyco Electronics (Wkrs) | Dallas, OR | 12/17/2001 | Printed circuit boards.
40,545 | Appleton Coated (PACE) | Combined Locks, WI | 12/27/2001 | Carbonless forms.
40,546 | Midland Steel Product (Co.) | Janesville, WI | 11/19/2001 | Truck frame assemblies.
40,547 | Cuvahoga Valley Railway (Co.) | Cleveland, OH | 12/26/2001 | Steel.
40,548 | BP Exploration Alaska (Wkrs) | Anchorage, AK | 12/27/2001 | Oil.
40,549 | DB, Inc. (Co.) | Potlatch, ID | 12/21/2001 | Custom tooling and patterns.
40,550 | Nokia Networks (Wkrs) | Ft. Worth, TX | 11/07/2001 | Prototype and prezero modules.
40,551 | Chemical Lime Co. (Co.) | Douglas, AZ | 12/21/2001 | Calcium oxide.
40,552 | Electronic Data Systems (Wkrs) | Copley, OH | 12/28/2001 | Provide payroll services for LTV steel.
40,553A | Aalfs Manufacturing (Wkrs) | Mena, AR | 11/14/2001 | Denim jeans and shorts.
40,553B | Aalfs Manufacturing (Wkrs) | Arkadelphia, AR | 11/14/2001 | Denim jeans and shorts.
40,553C | Aalfs Manufacturing (Wkrs) | Malvern, AR | 11/14/2001 | Denim jeans and shorts.
40,553D | Aalfs Manufacturing (Wkrs) | Sioux City, IA | 11/14/2001 | Denim jeans and shorts.
40,553 | Aalfs Manufacturing (Wkrs) | Glenwood, AR | 11/14/2001 | Denim jeans and shorts.
40,554 | Beltex Underwear Co (Wkrs) | Belmont, NC | 12/11/2001 | Men's underwear.
40,555 | Tom's Sportswear (UNITE) | Lehighton, PA | 12/20/2001 | Ladies' sportswear.
40,556 | Hunt Foods (ConAgra) (UFCW) | Perrysburg, OH | 07/18/2001 | Tomato sauces, ketchup and BBQ sauces.
40,557 | Midwest Garment Co. (Co.) | Chesterfield, MO | 10/16/2001 | Bed sheets, pillow cases.
40,558 | Pennsylvania Tool & Gages (Co.) | Meadville, PA | 10/26/2001 | Mold and die tooling, machined component.
40,559 | Maysville Garment (Co.) | Maysville, NC | 10/12/2001 | Knit woven shirts, dresses, & pants.
40,560 | DataMark, Inc. (Wkrs) | El Paso, TX | 10/22/2001 | Forms processing services.
40,561 | Thermal Industrial (Wkrs) | Pittsburgh, PA | 10/19/2001 | Vinyl lineal extrusions.
40,562 | Lake Superior & Ishpeming (Co.) | Marquette, MI | 10/18/2001 | Transport iron ore.
40,563 | Best Form Foundations (UNITE) | Johnstown, PA | 10/17/2001 | Women's under garments.
40,564 | Texfi Industries (Co.) | New York, NY | 10/23/2001 | Apparel fabric.
40,565 | Enirons, Inc. | Portland, OR | 10/26/2001 | Golf outerwear.
40,566 | Angelica Image Apparel (Co.) | Winona, MS | 10/16/2001 | Aprons, tops, pants, shirts.
40,567 | Ivaco Steel Processing (Wkrs) | Tonawanda, NY | 10/18/2001 | Steel.
40,568 | Carlisle Engineered Prod (Wkrs) | Erie, PA | 10/25/2001 | Engine cooling components.
40,569 | Tama Sportswear, Inc (Wkrs) | Long Island, NY | 11/06/2001 | Swimwear.
40,570 | ATD Corporation (Wkrs) | Vienna, OH | 11/10/2001 | Steel and dunnage materials.
40,571 | Moon Tool and Die (Co.) | Conneaut Lake, PA | 10/22/2001 | Injection molds.
40,572 | Northeast Bleach and Dye (Wkrs) | Schuylkill Have, PA | 11/13/2001 | Bleach and dye cotton, poly materials.
40,573 | Nortel Networks (Wkrs) | Bohemia, NY | 11/07/2001 | Computer systems.
40,574 | Heckett Multiserv (Co.) | Provo, UT | 11/20/2001 | Slag & metal reclamation.
40,575 | Phoenix Finishing (Co.) | Gaffney, SC | 11/01/2001 | Finished broadwoven fabrics.
40,576 | Joners Apparel Group (Wkrs) | Bristol, PA | 11/01/2001 | Women's apparel.
40,577 | Kurt Manufacturing (Wkrs) | Minneapolis, MN | 11/30/2001 | Cast molds and tooling.
40,578 | Graphic Arts, Inc. (Co.) | Philadelphia, PA | 11/27/2001 | Commercial printing.
40,579 | VDO North America (Co.) | Winchester, VA | 11/29/2001 | instrumentation and fuel systems.
40,580 | Debbie Sue Fashions (UNITE) | Bethlehem, PA | 11/20/2001 | Ladies' swimwear.
40,581 | Young Mens Shop (Wkrs) | Altoona, PA | 11/02/2001 | Retail clothing store.
40,582 | General Electric, Austin (Wkrs) | Youngstown, OH | 11/15/2001 | Coils for incadecent light bulbs.
40,583 | Mocaro Dyeing & Finishing (Co.) | Statesville, NC | 11/14/2001 | Dyeing and finishing piece goods.
40,584 | Rockwell Collins (Co.) | Irvine, CA | 01/03/2001 | Inflight entertainment systems.
40,585 | Center Finishing (UNITE) | Jersey City, NJ | 11/29/2001 | Printing on woven goods—upholstery.
40,586 | VF Services (Co.) | Greensboro, NC | 11/26/2001 | Provide technical support.
40,587 | UCAR Carbon Company (PACE) | Clarksburg, WV | 11/14/2001 | Specialty graphite products.
40,588 | CNG International (Wkrs) | Hastings, MI | 11/15/2001 | Press repair parts.

[FR Doc. 02-3404 Filed 2-12-02; 8:45 am]

BILLING CODE 4510-30-M